DEPARTMENT OF HEALTH AND HUMAN SERVICES

Centers for Medicare & Medicaid Services

42 CFR Part 447

[CMS-2134-N]

RIN 0938-AL05

Medicaid Program; Modification of the Medicaid Upper Payment Limit for Non-State Government-Owned or Operated Hospitals: Delay of Effective Date

AGENCY: Centers for Medicare & Medicaid Services (CMS), HHS.

ACTION: Delay of effective date of a final rule.

SUMMARY: This document delays the effective date of the final rule entitled “Modification of the Medicaid Upper Payment Limit for Non-State Government-Owned or Operated Hospitals,” published in the Federal Register on January 18, 2002 (67 FR 2603).

As published, the rule was to be effective March 19, 2002. We are postponing the effective date of the rule to April 15, 2002.

DATES: The effective date of the final rule, Medicaid Program: Modification of the Medicaid Upper Payment Limit for Non-State Government-Owned or Operated Hospitals, which amended 42 CFR part 447 and published in the Federal Register on January 18, 2002, at 67 FR 2602 is delayed until April 15, 2002.

FOR FURTHER INFORMATION CONTACT: Marge Lee, (410) 786-4361.

(Catalog of Federal Domestic Assistance Program No. 93.778, Medical Assistance Program)
Dated: March 15, 2002.
Thomas A. Scully,
Administrator, Centers for Medicare & Medicaid Services.
Approved: March 15, 2002.
Tommy G. Thompson,
Secretary.

[FR Doc. 02-6713 Filed 3-18-02; 8:45 am]

BILLING CODE 4120-01-P